DEPARTMENT OF EDUCATION

[Docket No.: ED-2022-SCC-0160]

Agency Information Collection Activities; Comment Request; U.S. Department of Education Supplemental Information for the SF-424 Form

AGENCY: Office of the Secretary (OS), Department of Education (ED).

ACTION: Notice.

SUMMARY: In accordance with the Paperwork Reduction Act (PRA) of 1995, the Department is proposing a revision of a currently approved information collection request (ICR).

DATES: Interested persons are invited to submit comments on or before March 6, 2023.

ADDRESSES: To access and review all the documents related to the information collection listed in this notice, please use http://www.regulations.gov by searching the Docket ID number ED-2022-SCC-0160. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave SW, LBJ, Room 6W203, Washington, DC 20202-8240.

FOR FURTHER INFORMATION CONTACT: For specific questions related to collection activities, please contact Cleveland Knight, (202) 987-0064.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: U.S. Department of Education Supplemental Information for the SF-424 Form.

OMB Control Number: 1894-0007.

Type of Review: Revision of a currently approved ICR.

Respondents/Affected Public: State, local, and Tribal governments. Total Estimated Number of Annual Responses: 5,976.

Total Estimated Number of Annual Burden Hours: 2,271.

Abstract: The U.S. Department of Education Supplemental Information form for the SF-424 is used together with the SF-424, Application for Federal Assistance. Several years ago ED made a decision to switch from the Application for Federal Education Assistance or ED 424 (1890-0017) collection (now 1894-0007) to the SF-424, in order to adhere with Federal-wide forms standardization and streamlining efforts, especially with widespread agency use of Grants.gov.

There were several data elements/questions on the ED 424 that were required for applicants and were not included on the SF-424. Therefore, ED put these questions that were already cleared as part of the 1894-0007 collection on a form entitled the, U.S. Department of Education Supplemental Information for the SF-424.

The questions on this form deal with the following areas: Project Director identifying and contact information; New Potential Grantee or Novice Applicants; Human Subjects Research, and Infrastructure Programs and Build America, Buy America Act Applicability (BABAA). The ED supplemental information form can be used with any of the SF-424 forms in the SF-424 forms family, as applicable.

Dated: December 30, 2022.
Stephanie Valentine,
PRA Coordinator, Strategic Collections and Clearance, Governance and Strategy Division, Office of Chief Data Officer, Office of Planning, Evaluation and Policy Development.

[FR Doc. 2022-28620 Filed 1-4-23; 8:45 am]

BILLING CODE 4000-01-P